DEPARTMENT OF DEFENSE

Department of the Army; Corps of Engineers

Notice of Availability of the Draft Programmatic Environmental Impact Statement for the Mechanical Creation and Maintenance of Emergent Sandbar Habitat in the Riverine Segments of the Upper Missouri River, Missouri River Basin, United States

AGENCY: Department of the Army, U.S. Army Corps of Engineers, DoD.

ACTION: Notice of Availability.

SUMMARY: In accordance with the National Environmental Policy Act of 1968, as amended, the U.S. Army Corps of Engineers has prepared a Draft Programmatic Environmental Impact Statement (EIS) for the Mechanical Creation and Maintenance of Emergent Sandbar Habitat on the Riverine Segments of the Upper Missouri River and by this notice is announcing the opening of the comment period.

DATES: The comment period will be open from November 1, 2010 to January 21, 2011. Public meetings will take place in December, 2010 and January, 2011; The specific schedule is provided under SUPPLEMENTARY INFORMATION.

ADDRESSES: Written comments should be sent to: Department of the Army; Corps of Engineers, Omaha District; CENWO-PM-AC; ATTN: Emergent Sandbar Habitat Programmatic EIS; 1616 Capitol Avenue; Omaha, NE 68102-4901. Comments can also be e-mailed to: Cynthia.s.upah@usace.army.mil. Comments on the Draft Programmatic Environmental Impact Statement for the Mechanical Creation and Maintenance of Emergent Sandbar Habitat in the Riverine Segments of the Upper Missouri River must be postmarked, e-mailed, or otherwise submitted no later than January 21, 2011.

FOR FURTHER INFORMATION CONTACT: For further information and/or questions about the Emergent Sandbar Habitat Programmatic EIS, please contact Ms. Cynthia Upah, Project Manager, by telephone: (402) 995-2672, by mail: 1616 Capitol Avenue, Omaha, NE 68102-4901, or by e-mail: Cynthia.s.upah@usace.army.mil. For inquires from the media, please contact the USACE Omaha District Public Affairs Officer (PAO), Ms. Monique Farmer by telephone: (402) 995-2416, by mail: 1616 Capitol Avenue, Omaha, NE 68102, or by e-mail: Monique.l.farmer@usace.army.mil.

SUPPLEMENTARY INFORMATION:

1. Background

The Emergent Sandbar Habitat (ESH) program is being implemented by the U.S. Army Corps of Engineers (Corps) for the benefit and recovery of the interior population of the Interior least tern (least tern) and the northern Great Plains piping plover (piping plover). This implementation program resulted from a Biological Opinion (BiOp) issued by the U.S. Fish and Wildlife Service (USFWS) in which the Reasonable and Prudent Alternative called for the Corps to provide sufficient ESH acreage in order to meet biological metrics (fledge ratios) to avoid jeopardizing continued existence of the species, as defined by the Endangered Species Act (ESA).

The Programmatic EIS (PEIS) is needed to provide National Environmental Policy Act (NEPA) coverage for the mechanical construction of ESH. The purpose of the PEIS is to analyze the potential environmental consequences of implementing the ESH program on the Missouri River. The PEIS allows the public, cooperating agencies (USFWS and National Park Service), and Corps decision makers to compare impacts among a range of alternatives. The goal is to inform the selection of a preferred alternative that allows for the creation and replacement of sufficient habitat to support tern and plover populations on the Missouri River in a safe, efficient and cost-effective manner that minimizes negative environmental consequences.

2. Document Availability

The Emergent Sandbar Habitat Programmatic EIS is available online at http://www.moriverrecovery.org/mrrp/mrrp_pub_dev.download_documentation_esh, and at the following community libraries: Glasgow City-County Library, 408 Third Avenue South, Glasgow, MT; Bismarck Veterans Memorial Public Library, 515 N Fifth Street, Bismarck, ND; Rawlins Municipal Library, 1000 E. Church St., Pierre, SD; Yankton Community Library, 515 Walnut, Yankton, SD; Sioux City Public Library, 529 Pierce Street, Sioux City, IA; W Dale Clark Library, 215 S. 15th Street, Omaha, NE; Kansas City Public Library, 14 West 10th Street, Kansas City, MO, or please contact Ms. Cynthia Upah, Project Manager, by telephone: (402) 995-2672, by mail: 1616 Capitol Avenue, Omaha, NE 68102-4901, or by e-mail: Cynthia.s.upah@usace.army.mil.

3. Public Involvement Meetings

The Omaha District of the U.S. Army Corps of Engineers invites all interested entities including Tribal governments, Federal agencies, state and local governments, and the general public to comment on the Emergent Sandbar Habitat Programmatic EIS. The public comment period began with the publication of this notice on November 1, 2010 and will continue until January 21, 2011.

All public involvement meetings will use an open house format, followed by a presentation and the opportunity to make public comment. Informational materials about the Emergent Sandbar Habitat program and the Programmatic EIS will be located throughout the room for participant perusal throughout the evening. Corps representatives will be available to meet one-on-one with meeting participants. In addition to public comments being recorded, written comments will be collected on comment cards, and the opportunity to have formal verbal comments transcribed will be available. All forms of comment will be weighted equally. Input from the public involvement meetings, along with comments received by other means (regular mail or e-mail), will be used to refine the document before a Final Programmatic EIS is released.

The Corps has scheduled public involvement meetings at the following locations:

1. Tuesday, November 30: Bismarck, North Dakota, Best Western Doublewood Inn & Conference Center, 1400 E. Interchange Avenue, Bismarck, ND 58501.

2. Thursday, December 2: Fort Peck, Montana, Fort Peck Interpretive Center & Museum, Lower Yellowstone Rd., Fort Peck, MT 59223.

3. Tuesday, December 7: Pierre, South Dakota, Best Western Ramkota Hotel & Conference Center, 920 W. Sioux Avenue, Pierre, SD 57501.

4. Wednesday, December 8: Yankton, South Dakota, Riverfront Event Center, 121 W. 3rd Street, Yankton, SD 57078.

5. Thursday, December 9: Sioux City, Iowa, Stoney Creek Inn & Conference Center, 300 3rd Street, Sioux City, IA 51101.

6. Wednesday, January 5, 2011: Omaha, Nebraska, Creighton University Mike & Josie Harper Center, 602 N. 20th Street, Omaha, NE 68178.

7. Thursday, January 6, 2011: Kansas City, Missouri, Kansas City Marriott Country Club Plaza, 4445 Main Street, Kansas City, MO 64111.

If you require assistance under the Americans With Disabilities Act please send your name and phone via e-mail to Lois@djcase.com at least three days prior to the meeting you plan to attend. Persons who use a telecommunications service for the deaf (TDD) may call the Federal Information Relay Service (FIRS) at (800) 877-8339, 24 hours a day, seven days a week to relay this same information. For more information about the Emergent Sandbar Habitat program, please visit http://www.moriverrecovery.org under “BiOp/Mit Efforts.”

Dated: October 19, 2010.
Kayla Eckert Uptmor,
Chief Planning Branch, Omaha District.

[FR Doc. 2010-27496 Filed 10-29-10; 8:45 am]

BILLING CODE 3720-58-P